DEPARTMENT OF JUSTICE

Notice of Lodging of Proposed Consent Decree Under the Clean Air Act

On December 2, 2024, the Department of Justice lodged a proposed Consent Decree with the United States District Court for the Western District of Missouri in the lawsuit entitled United States of America v. BCP Ingredients, Inc. Civ. No. 3:24-cv-5094 (W.D. Mo.).

The Complaint seeks injunctive relief and civil penalties for alleged violations of section 112(r) of the Federal Clean Air Act (“CAA”), 42 U.S.C. 7412(r)(7), and its implementing regulations set forth at 40 CFR part 68, resulting from a release of ethylene oxide (“EtO”) at a chemical manufacturing and re-packaging facility owned and operated by BCP Ingredients, Inc. (“BCP”) in Verona, Missouri. Under the proposed Consent Decree resolving these alleged violations, BCP will pay a civil penalty of $300,000 to the United States, install an additional state-of-the-art EtO scrubber to reduce EtO emissions at its facility, and share a copy of its final audit completion report from a 2022 third party audit. BCP also will be required to perform three Supplemental Environmental Projects totaling $350,000: (1) donation of two vehicles to a local healthcare provider to provide mobile health services to communities near BCP's facility; (2) provision of at least 1,000 medical visits to be administered by the same local healthcare provider using the vehicles BCP will donate for the first SEP; and (3) donation of emergency response equipment to a fire department near BCP's facility.

The publication of this notice opens a period for public comment on the proposed Consent Decree. Comments should be addressed to the Assistant Attorney General, Environment and Natural Resources Division, and should refer to United States of America v. BCP Ingredients, Inc. Civ. No. 3:24-cv-5094 (W.D. Mo.), D.J. Ref. No. 90-5-2-1-12805. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. If you require assistance accessing the consent decree, you may request assistance by email or mail to the addresses provided above for submitting comments.

Kathryn C. Macdonald,
Assistant Section Chief, Environmental Enforcement Section, Environment and Natural Resources Division.

[FR Doc. 2024-28710 Filed 12-5-24; 8:45 am]

BILLING CODE 4410-15-P